DEPARTMENT OF ENERGY

Federal Energy Regulatory Commission

[Docket No. CP04-335-000]

Questar Pipeline Company; Notice of Request Under Blanket Authorization

May 19, 2004.

Take notice that on May 11, 2004, Questar Pipeline Company (Questar), 180 East 100 South, Salt Lake City, Utah 84111, filed in Docket No. CP04-335-000 a request pursuant to sections 157.208(b) and 157.211 of the Commission's Regulations under the Natural Gas Act (18 CFR 157.205 and 157.208) for authorization to construct and operate a 13.4 mile, 20-inch diameter delivery lateral, a measurement and control station and appurtenances in Utah and Juab Counties, Utah, under the authorization issued in Docket No. CP82-491-000 pursuant to section 7 of the Natural Gas Act, all as more fully described in the request.

Questar states that copies of this request are on file with the Commission and are available for public inspection. This filing may also be viewed on the web at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Lenard G. Wright, Director of Federal Regulation, Questar Pipeline Company, 180 East 100 South, Salt Lake City, Utah 84111 at (801) 324-2459 or lenard.wright@questar.com.

Questar asserts that the delivery lateral would extend from the western terminus of Questar's Main Line No. (ML) 104 to PacifiCorp's Currant Creek Power Project (PacifiCorp's Project).

Questar states that its proposed delivery lateral, to be known as Jurisdictional Tap Line (JTL) 113, would extend approximately 13.4 miles from the west end of Questar's ML 104 pipeline, near Elberta, in Utah County, Utah, to PacifiCorp's Project, located approximately two miles west of the city of Mona in Juab County, Utah. Questar explains that JTL 113 would provide transportation service to PacifiCorp's Project under a long-term Firm Transportation Service Agreement listed as Exhibit A to the Precedent Agreement for Firm Transportation Service between Questar and PacifiCorp.

Questar maintains that the estimated project cost would be $13.5 million.

Any person or the Commission's Staff may, within 45 days after the issuance of the instant notice by the Commission, file pursuant to rule 214 of the Commission's procedural rules (18 CFR 385.214) a motion to intervene or notice of intervention and, pursuant to section 157.205 of the Commission's regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Comments, protests and interventions may be filed electronically via the Internet in lieu of paper. See 18 CFR 385.2001(a)(1)(iii) and the instructions on the Commission's Web site under the “e-Filing” link.

Magalie R. Salas,
Secretary.

[FR Doc. E4-1210 Filed 5-25-04; 8:45 am]

BILLING CODE 6717-01-P